DEPARTMENT OF HEALTH AND HUMAN SERVICES

Health Resources and Services Administration

HRSA-03-099 Fiscal Year 2003 Competitive Cycle for the Bioterrorism Training and Curriculum Development Program (BCDF) 93.996

AGENCY: Health Resources and Services Administration, HHS.

ACTION: Correction of deadline date.

SUMMARY: In notice document FR Doc. 03-10934, in the issue of Monday, May 5, 2003, make the following correction:

On page 23730, under the section Application Requests, Availability, Deadline and Addresses, in the third column, the application deadline date should read June 30, 2003.

Dated: May 9, 2003.
Jane M. Harrison,
Director, Division of Policy Review and Coordination.

[FR Doc. 03-12042 Filed 5-14-03; 8:45 am]

BILLING CODE 4165-15-P